Title 3—

The President

Proclamation 8142 of May 10, 2007

National Defense Transportation Day and National Transportation Week, 2007

By the President of the United States of America

A Proclamation

Our Nation's transportation infrastructure is vital to our security, competitiveness, and prosperity and is critical to the everyday lives of our citizens. On National Defense Transportation Day and during National Transportation Week, we salute those in the transportation industry who work to help keep our Nation safe and moving.

America is strengthened by transportation that helps to safely and efficiently transport our troops, deliver supplies, and serve in emergency situations. My Administration is committed to maintaining and modernizing our vast transportation infrastructure to serve the country's needs now and in the future. We continue to improve the safety and security of our roads, bridges, seaports, mass transit systems, airports, airplanes, and pipelines. Protecting our transportation systems increases safety for all our citizens and helps sustain our economy.

In addition to keeping Americans safe, our transportation system is critical to our citizens' everyday lives. Americans depend on our safe, reliable, and efficient infrastructure to travel for work or pleasure. Through the Department of Transportation, we are working to reduce congestion and improve the performance of America's transportation system.

There are many transportation professionals and military service members across our Nation who work to help ensure that our transportation systems run smoothly and continue to protect our homeland. We are grateful for their dedication and service, and we recognize their important contributions to making America's transportation system the strongest and most reliable in the world.

To recognize the men and women who work in the transportation industry and who contribute to our Nation's well-being and defense, the Congress, by joint resolution approved May 16, 1957, as amended (36 U.S.C. 120), has designated the third Friday in May of each year as “National Defense Transportation Day,” and, by joint resolution approved May 14, 1962, as amended (36 U.S.C. 133), declared that the week during which that Friday falls be designated as “National Transportation Week.”

NOW, THEREFORE, I, GEORGE W. BUSH, President of the United States of America, do hereby proclaim Friday, May 18, 2007, as National Defense Transportation Day and May 13 through May 19, 2007, as National Transportation Week. I encourage all Americans to learn how our modern transportation system contributes to the security of our citizens and the prosperity of our country and to celebrate these observances with appropriate ceremonies and activities.

IN WITNESS WHEREOF, I have hereunto set my hand this tenth day of May, in the year of our Lord two thousand seven, and of the Independence of the United States of America the two hundred and thirty-first.

[FR Doc. 07-2414

Filed 5-14-07; 9:08 am]

Billing code 3195-01-P